DEPARTMENT OF COMMERCE

National Oceanic and Atmospheric Administration

RIN 0648-XF215

Endangered Species; File No. 20315

AGENCY: National Marine Fisheries Service (NMFS), National Oceanic and Atmospheric Administration (NOAA), Commerce.

ACTION: Notice; receipt of application.

SUMMARY: Notice is hereby given that Kristen Hart, Ph.D., U.S. Geological Survey, 3205 College Ave., Davie, Florida, 33314 has applied in due form for a permit to take green (Chelonia mydas), hawksbill (Eretmochelys imbricata), and loggerhead (Caretta caretta) sea turtles for purposes of scientific research.

DATES: Written, telefaxed, or email comments must be received on or before March 23, 2017.

ADDRESSES: The application and related documents are available for review by selecting “Records Open for Public Comment” from the “Features” box on the Applications and Permits for Protected Species (APPS) home page, https://apps.nmfs.noaa.gov, and then selecting File No. 20315 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to continue projects studying green, hawksbill, and loggerhead sea turtles in the U.S. Virgin Islands, including Buck Island Reef National Monument, Virgin Islands Coral Reef National Monument, and Virgin Islands National Park. Proposed research would involve vessel surveys for abundance counts and capture of turtles to determine connectivity of populations, monitor movement, identify habitat utilization, estimate abundance, and determine diet composition of sea turtles. Annually, up to 160 green, 190 hawksbill, and 10 loggerhead sea turtles would be captured by hand, rodeo, or dip, tangle, or cast nets. Each turtle would be subject to epibiota removal, flipper and passive integrated transponder tagging, temporary carapace marking, morphometric measurements, gastric lavage, photograph/video, opportunistic recapture, fecal collection, and blood/tissue sampling. Loggerhead sea turtles and a subset of green and hawksbill sea turtles would also be outfitted with up to three transmitters at a time.

Dated: February 15, 2017.
Julia Harrison,
Chief, Permits and Conservation Division, Office of Protected Resources, National Marine Fisheries Service.

[FR Doc. 2017-03333 Filed 2-17-17; 8:45 am]

BILLING CODE 3510-22-P